DEPARTMENT OF DEFENSE

Office of the Secretary

[Transmittal No. 19-0N]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 19-0N with attached Policy Justification and Sensitivity of Technology.

Dated: December 18, 2019.
Aaron T. Siegel,
Alternate OSD Federal Register Liaison Officer, Department of Defense.

BILLING CODE 5001-06-P

BILLING CODE 5001-06-C

Transmittal No. 19-0N

REPORT OF ENHANCEMENT OR UPGRADE OF SENSITIVITY OF TECHONOLOGY OR CAPABILITY (SEC 36(B)(5)(C), AECA)

(i) Prospective Purchaser: Government of the Netherlands

(ii) Sec 36(b)(1), AECA Transmittal No.: 17-66

Date: February 20, 2018

Military Department: Army

(iii) Description: On February 20, 2018, Congress was notified by Congressional certification transmittal number 17-66 of the possible sale under Section 36(b)(1) of the Arms Export Control Act of items and services to support the upgrade/remanufacture of twenty-eight (28) AH-64D Block II Apache Attack Helicopters to the AH-64E configuration to include upgrading fifty-one (51) remaining T700-GE-701C Engines to T700-GE-701D (42 engines to be installed, 9 spares), seventeen (17) AN/APG-78 Fire Control Radar (FCR) and subcomponents, twenty-eight (28) AN/ASQ-170 Modernized Target Acquisition and Designation Sights (MTADS)/AN/AAR-11 Modernized Pilot Night Vision Sensors (PNVS), twenty-eight (28) AN/APR-48B Modernized Radar Frequency Interferometers (MRFI), and seventy (70) Embedded Global Positioning System/Inertial Navigation Systems (EGI) plus Multi-Mode Receiver. Non-MDE items and services to support the upgrade/ remanufacturing of the existing AH-64D Block II Apache Attack Helicopters to AH-64E configuration, training devices, helmets, simulators, generators, transportation, wheeled vehicles and organization equipment, spare and repair parts, support equipment, tools and test equipment, technical data and publications, personnel training and training equipment, U.S. Government and contractor engineering, technical, and logistics support services, and other related elements of logistics and program support. The estimated total cost was $1.191 billion. Major Defense Equipment (MDE) constituted $829 million of this total.

This transmittal reports the inclusion of the following MDE items not previously notified:

1) Seventeen (17) Radar Electronic Units (REUs) to replace two (2) legacy Line Replaceable Units (Programmable Signal Processor and Low Power Radio Frequency) as an upgrade to the AN/APG-78 Fire Control Radar (FCR). (The REU was designated as MDE subsequent to notification of the original CN.);

2) One (1) Longbow Crew Trainer (LCT) (in addition to the one previously notified); and

3) Fifty-eight (58) new aircraft engines.

The inclusion of these items will result in a net increase in MDE cost of $101 million and non-MDE cost of $68 million. The total case value will increase to $1.36 billion.

(iv) Significance: This equipment will support the capabilities of RNLAF's Apache fleet and enhance interoperability with the United States. Without the REU subcomponent, the Fire Control Radar (FCR) system will be nonoperational. Without the second LCT, the RNLAF will not be able to effectively train their pilots and maintainers, negatively impacting the RNLAF's operational ability.

(v) Justification: This proposed sale will support the foreign policy and national security of the United States by helping to improve the security of a NATO ally which is an important force for political stability and economic progress in Northern Europe.

(vi) Sensitivity of Technology: The Radar Electronic Unit (REU) is a component upgrade to the AN/APG-78 Fire Control Radar (FCR). The REU replaces two legacy Line Replaceable Units (Programmable Signal Processor and Low Power Radio Frequency), achieving a weight reduction of approximately 85 pounds, with improved reliability, increased processing power, growth for new modes/capabilities and replacement of obsolete components.

The Longbow Crew Trainer (LCT) is designated as a high functional and high fidelity flight trainer, meeting required design requirements established and periodically updated under programmatic design review.

(vii) Date Report Delivered to Congress: October 30, 2019

[FR Doc. 2019-27957 Filed 12-26-19; 8:45 am]

BILLING CODE 5001-06-P